DEPARTMENT OF TRANSPORTATION

Federal Aviation Administration

[Docket No: FAA-2024-1811]

Agency Information Collection Activities: Requests for Comments; Clearance of Renewal Approval of Information Collection: Commercial Space Transportation Reusable Launch Vehicle and Reentry Licensing Regulations

AGENCY: Federal Aviation Administration (FAA), DOT.

ACTION: Notice and request for comments.

SUMMARY: In accordance with the Paperwork Reduction Act of 1995, FAA invites public comments about our intention to request the Office of Management and Budget (OMB) approval for a renewed information collection. The Federal Register Notice with a 60-day comment period soliciting comments on the following collection of information was published on June 24, 2024. In accordance with the Paperwork Reduction Act of 1995, FAA invites public comments about our intention to request the Office of Management and Budget (OMB) approval to renew an information collection. The information is used to determine if applicants satisfy requirements for renewing a launch license to protect the public from risks associated with reentry operations.

DATES: Written comments should be submitted by March 26, 2025.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Charles Huet by email at Charles.huet@faa.gov; phone: (202) 267-7427.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0643.

Title: Commercial Space Transportation Reusable Launch Vehicle and Reentry Licensing Regulation.

Form Numbers: There are no FAA forms associated with this collection.

Type of Review: Renewal of information collection.

Background: The Federal Register Notice with a 60-day comment period soliciting comments on the following collection of information was published on June 24, 2024 (89 FR 52533). The data is necessary for a U.S. citizen to apply for and obtain a reusable launch vehicle (RLV) mission license or a reentry license for activities by commercial or non-federal entities (that are not done by or for the U.S. Government) as defined and required by 49 U.S.C., subtitle IX, chapter 701, formerly known as the Commercial Space Launch Act of 1984, as amended. The information is needed to demonstrate to the FAA Office of Commercial Space Transportation (FAA/AST) that the proposed activity meets applicable public safety, national security, and foreign policy interests of the United States.

Respondents: Approximately 5 reusable launch vehicle or reentry vehicle operators.

Frequency: Information Collection on occasion.

Estimated Average Burden per Response: 1,127 hours.

Estimated Total Annual Burden: 4,507 hours.

Issued in Washington, DC.
James A. Hatt,
Space Policy Division Manager, Commercial Space Transportation, Federal Aviation Administration.

[FR Doc. 2025-02977 Filed 2-21-25; 8:45 am]

BILLING CODE 4910-13-P